DEPARTMENT OF HEALTH AND HUMAN SERVICES

Centers for Disease Control and Prevention

Community Trial to Test the Effectiveness of the Smoke Alarm Installation and Fire Safety Education (SAIFE) Program

Announcement Type: New.

Funding Opportunity Number: 04058.

Catalog of Federal Domestic Assistance Number: 93.136.

Key Dates:

Letter of Intent Deadline: December 29, 2003.

Application Deadline: February 17, 2004.

I. Funding Opportunity Description

Authority: This program is authorized under section 317 and 391 of the Public Health Service Act (42 U.S.C. 247b and 280b), as amended.

Purpose

The purpose of this program is to evaluate strategies to reduce the number of residential fire-related injuries and fatalities in high-risk communities.

This program addresses the “Healthy People 2010,” focus area of Injury and Violence Prevention.

Measurable outcomes of the program will be in alignment with one or more of the following performance goals for the National Center for Injury Prevention and Control (NCIPC):

1. Increase the capacity of injury prevention and control programs to address the prevention of injuries and violence.

2. Monitor and detect fatal and non-fatal injuries.

3. Conduct a targeted program of research to reduce injury-related death and disability.

Research Objectives

The objective of this cooperative agreement is to rigorously evaluate strategies to reduce the number of residential fire-related injuries and fatalities in high-risk communities. Smoke alarms have proven effective in reducing the fire death and injury toll. Research shows that functioning smoke alarms are more likely to be present in a home when a fire safety program provides and installs them, rather than simply providing vouchers and/or discounts to individuals to obtain alarms that require resident installation. There are CDC programs currently being funded by PA 01076 in 16 states that provide for home installation of smoke alarms plus general fire safety education in households at high risk for fire, fire-related injury, and death. Programs of this type seem reasonable, but have not been studied scientifically to assess their impact on fire-related injury outcomes. This study will assess, through a community trial, the effectiveness of the program operating prospectively in multiple communities in one state.

Activities

Awardee activities for this program are as follows:

(a) Develop and implement a community trial to test the effectiveness of the smoke alarm installation and fire safety education (SAIFE) Program Announcement 01076 (intervention). Each year a minimum of three different communities having the capacity and willingness to implement smoke alarm installation combined with fire safety education for one year (intervention communities) will participate; and three comparison communities will not receive the intervention (control communities). Control communities should not become intervention communities in subsequent years to ensure research findings are not contaminated during follow-up. At least nine intervention and nine control communities must be enrolled over three years. Program activities at the intervention sites are funded by program announcement 01076, and should be used for these sites only. Additionally, in order to test for the effectiveness of the intervention accurately, intervention and control communities must not have previously received funding from CDC or United States Fire Administration (USFA) for residential fire-related injury prevention programs. Non-intensive, relatively small awards, such as funding for equipment or education only programs, will not disqualify a community.

(b) Study sites must target vulnerable populations (e.g., children under five, adults age 65 and older, persons with low social economic status) and include each year at least one urban, one suburban, and one rural community. All communities should have a population of approximately 50,000. These may be counties, cities, or neighborhoods. All communities should demonstrate fire incidence rates above the national average.

(c) Control communities should be matched on urban/suburban/rural status, type(s) of vulnerable populations, and approximate population size.

(d) Intervention communities will receive the smoke alarm installation and fire safety education program funded by program announcement 01076. Therefore, the intervention should facilitate the acquisition, distribution and proper installation of long-lasting, lithium-powered smoke alarms and fire safety education for targeted communities through the collaborative efforts of fire safety personnel and/or community workers.

(e) In partnership and collaboration with an academic or research institution, develop a community trial study design with intervention and control communities (as described above). Follow-up assessments for each intervention community should include assessment of the continued presence and functionality of intervention-installed smoke alarms. Outcomes to be measured in both intervention and control communities should include a comparison of pre- and post-intervention residents' knowledge, attitudes, beliefs, and behaviors; fire incidence, injuries, and deaths. Follow-up on injuries and deaths will require partnering with local hospitals. Depending upon when communities enter the study, some communities will have longer follow-up periods than others.

(f) The research team, including a research project coordinator, should provide oversight for the research activities to each community selected. Year one will address design and preparation issues, including the development of materials for Institutional Review Board (IRB). Years two through four will emphasize implementation of intervention and control community activities including data collection. Year five will include final months of follow-up activities and data analysis.

In a cooperative agreement, CDC staff is substantially involved in the program activities, above and beyond routine grant monitoring.

CDC Activities for this program are as follows:

(a) Partner in a substantial way in all activities, especially with regard to understanding best practices and evidence that can be applied to intervention design for fire prevention.

(b) Provide technical consultation and advice through routine meetings and conference calls with the awardee and any local partners on all aspects of intervention design, methods, analysis planning, and other recipient activities.

(c) Provide up-to-date scientific information about fire-related injuries on a national scope and with respect to specific regions and population groups.

(d) Partner and collaborate with the awardee in development and refinement of the intervention.

(e) Partner in developing a research protocol for annual IRB review by all cooperating institutions participating in the research study. The CDC IRB will review and approve the protocol initially and on at least an annual basis until the research study is completed.

(f) Ensure human subjects assurances are in place and in effect.

(g) Monitor and evaluate the scientific and operational accomplishments of the project. This will be accomplished through periodic site visits, telephone calls, electronic communication, technical and data reports and interim data analyses.

(h) Facilitate collaborative efforts to compile and disseminate research results through presentations at scientific conferences and publications in peer-reviewed public health journals.

II. Award Information

Type of Award: Cooperative Agreement.

CDC involvement in this program is listed in the Activities Section above.

Fiscal Year Funds: FY 2004.

Approximate Total Funding: $250,000.

Approximate Number of Awards: One.

Approximate Average Award: $250,000.

Floor of Award Range: $250,000.

Ceiling of Award Range: $250,000.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal Government. With satisfactory progress on this community trial, funding for program activities (program announcement 01076) is expected to continue so that this community trial can be completed.

III. Eligibility Information

1. Eligible Applicants

Applications may be submitted by public and private nonprofit and for profit organizations and by governments and their agencies, such as:

• Public nonprofit organizations.

• Private nonprofit organizations.

• For profit organizations.

• Small, minority, women-owned businesses.

• Universities.

• Colleges.

• Research institutions.

• Hospitals.

• Community-based organizations (including faith-based organizations).

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States).

A Bona Fide Agent is an agency/organization identified by the state as eligible to submit an application under the state eligibility in lieu of a state application. If you are applying as a bona fide agent of a state or local government, you must provide as a letter from the state or local government as documentation of your status. Place this documentation behind the first page of your application form.

2. Cost Sharing or Matching

Matching funds are not required for this program.

3. Other Eligibility Requirements

If your application is incomplete or non-responsive to the requirements listed below, it will not be entered into the review process. You will be notified that your application did not meet the submission requirements.

1. The applicant (or team) must provide evidence of prior experience in designing, implementing, and evaluating community-based programs, including evaluation of knowledge, attitudes, beliefs, and behaviors; evidence of prior experience with implementing rigorous experimental studies; and/or experience with accessing and linking appropriate community level data with clinical, medical, and fire data. The applicant must include documentation of this experience such as publications from peer-reviewed journals.

2. The applicant must provide evidence of effective and well-defined collaborative relationships needed to ensure the implementation of the proposed activities. The collaboration must include at least a State Health Department (to provide leadership regarding local public health priorities), academic or research institution (to provide scientific and methodological expertise), fire prevention agencies (to provide guidance in community implementation activities), and local hospitals for follow-up of medical outcomes. The applicant must include letters of support that describe the specific commitments and responsibilities that will be undertaken by the collaborating organizations.

3. The applicant must be funded currently by CDC Program Announcement 01076 to perform community-based smoke alarm installation and fire safety education activities, and their project period does not need to extend through the period of this community trial.

4. Requested funding amount should not be greater than the ceiling of the award range.

5. Principal investigators (PI's) are encouraged to submit only one proposal in response to this program announcement. With few exceptions (e.g., research issues needing immediate public health attention), only one application per PI will be funded under this announcement.

Note: Title 2 of the United States Code section 1611 states that an organization described in section 501(c)(4) of the Internal Revenue Code that engages in lobbying activities is not eligible to receive Federal funds constituting an award, grant, or loan.

IV. Application and Submission Information

1. Address To Request Application Package

To apply for this funding opportunity, use application form PHS 398 (OMB number 0925-0001 rev. 5/2001). Forms and instructions are available in an interactive format on the CDC Web site, at the following Internet address: www.cdc.gov/od/pgo/forminfo.htm. Forms and instructions are also available in an interactive format on the National Institutes of Health (NIH) Web site at the following Internet address: http://grants.nih.gov/grants/funding/phs398/phs398.html.

If you do not have access to the Internet, or if you have difficulty accessing the forms on-line, you may contact the CDC Procurement and Grants Office Technical Information Management Section (PGO-TIM) staff at: 770-488-2700. Application forms can be mailed to you.

2. Content and Form of Application Submission

Letter of Intent (LOI)

CDC requests that you send a LOI if you intend to apply for this program. Although the LOI is not required, not binding, and does not enter into the review of your subsequent application, your LOI will be used to gauge the level of interest in this program, and to allow CDC to plan the application review. Your LOI must be written in the following format:

• Maximum number of pages: 2.

• Font size: 12-point unreduced.

• Paper size: 8.5 by 11 inches.

• Single spaced.

• Page margin size: one inch.

• Printed only on one side of page.

• Written in English, avoid jargon.

Your LOI must contain the following information:

• Descriptive title of the proposed research.

• Name, address, E-mail address, and telephone number of the Principal Investigator.

• Names of other key personnel.

• Participating institutions.

• Number and title of this Program Announcement (PA).

Application

Follow the PHS 398 application instructions for content and formatting of your application. For further assistance with the PHS 398 application form, contact GrantsInfo, Telephone (301) 435-0714, e-mail: GrantsInfo@nih.gov.

Your research plan should address activities to be conducted over the entire project period.

You are required to have a Dun and Bradstreet Data Universal Numbering System (DUNS) number to apply for a grant or cooperative agreement from the Federal government. Your DUNS number must be entered in item 11 of the face page of the PHS 398 application form. The DUNS number is a nine-digit identification number, which uniquely identifies business entities. Obtaining a DUNS number is easy and there is no charge. To obtain a DUNS number, access www.dunandbradstreet.com or call 1-866-705-5711. For more information, see the CDC Web site at http://www.cdc.gov/od/pgo/funding/pubcommt.htm.

3. Submission Dates and Times

LOI Deadline Date: December 29, 2003.

Application Deadline Date: February 17, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This announcement is the definitive guide on application submission address and deadline. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

4. Intergovernmental Review

Executive Order 12372 does not apply to this program.

5. Funding Restrictions

Restrictions, which must be taken into account while writing your budget, are as follows: None

If you are requesting indirect costs in your budget, you must include a copy of your indirect cost rate agreement. If your indirect cost rate is a provisional rate, the agreement must be less than 12 months of age.

6. Other Submission Requirements

LOI Submission Address: Submit your LOI by express mail, delivery mail, delivery service, fax or e-mail to: Robin Forbes, Centers for Disease Control and Prevention, National Center for Injury Prevention and Control, 4770 Buford Hwy., NE., Mailstop K-62, Atlanta, GA 30341, Fax: 770-488-1662, Telephone: 770-488-4037, E-mail: cipert@cdc.gov.

Application Submission Address: Submit the signed original and five copies of your application by mail or express delivery service to: Technical Information Management—PA# 04058, Procurement and Grants Office, Centers for Disease Control and Prevention, 2920 Brandywine Road, Atlanta, GA 30341.

Applications may not be submitted electronically at this time.

V. Application Review Information

1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The goals of CDC-supported research are to advance the understanding of biological systems, improve the control and prevention of disease, and enhance health. In the written comments, reviewers will be asked to evaluate the application in order to judge the likelihood that the proposed research will have a substantial impact on the pursuit of these goals. The scientific review group will address and consider each of the following criteria in assigning the application's overall score, weighting them as appropriate for each application.

The application does not need to be strong in all categories to be judged likely to have major scientific impact and thus deserve a high priority score. For example, an investigator may propose to carry out important work that by it's nature is not innovative, but is essential to move a field forward.

The criteria are as follows:

Significance: Does this study address an important problem? If the aims of the application are achieved, how will scientific knowledge be advanced? What will be the effect of these studies on the concepts or methods that drive this field?

Approach: Are the conceptual framework, design, methods, and analyses adequately developed, well-integrated, and appropriate to the aims of the project? Does the applicant describe the specific questions this research is intended to address? Does the applicant describe the hypotheses to be tested, the specific study goals, measurable objectives, and outcomes? Does the applicant acknowledge potential problem areas and consider alternative tactics?

Does the project include plans to measure progress toward achieving the stated objectives? Is there an appropriate work plan included? Does the applicant provide a detailed time-line for the first year of the study as well as a projected time-line for the subsequent four years?

Has the applicant clearly described how intervention and comparison communities will be selected?

Is there a statement as to whether the plans for recruitment and outreach for study participants include the process of establishing partnerships with communities and recognition of mutual benefits? Is there evidence of effective working relationships between the applicant and community organizations? Does the applicant describe experience in developing community partnerships and the community's current and anticipated capacity to carry out the proposed activities? Is there evidence that the applicant is successfully reaching communities and households under Program Announcement 01076?

Are there adequate plans for data collection and data management including security of data, assurance of participant confidentially, data entry, editing, and quality assurance procedures? Is there a statistical analysis plan appropriate for the study design?

Innovation: Does the project employ novel concepts, approaches or methods? Are the aims original and innovative? Does the project challenge existing paradigms or develop new methodologies or technologies?

Investigator: Is the investigator appropriately trained and well suited to carry out this work? Is the work proposed appropriate to the experience level of the principal investigator and other researchers? Is there a prior history of implementing injury-related research? Does the applicant document capacity to accomplish the proposed study as demonstrated by relevant past or current injury prevention studies and smoke alarm program activities?

Environment: Does the scientific environment in which the work will be done contribute to the probability of success? Do the proposed experiments take advantage of unique features of the scientific environment or employ useful collaborative arrangements?

Is there evidence of institutional support? Does the applicant describe the personnel and study collaborators needed to accomplish the proposed activities? Does the applicant provide evidence that the study personnel have the expertise and capacity to accomplish the proposed activities and to provide appropriate scientific oversight necessary to fulfill study goals and objectives?

Is there an appropriate degree of commitment and cooperation of other interested parties as evidenced by letters detailing the nature and extent of their involvement? Is there evidence of the experience and capacity for all key staff members including Curriculum Vitaes and position descriptions?

Is there a continuation plan in the event that key staff leave the project? How will new staff be integrated smoothly into the project, and what assurances are there that resources will be available when needed for this project?

Additional Review Criteria: In addition to the above criteria, the following items will be considered in the determination of scientific merit and priority score:

Study Samples: Are the samples rigorously defined to permit complete independent replication at another site? Have the referral sources been described, including the definitions and criteria? What plans have been made to include women and minorities and their subgroups as appropriate for the scientific goals of the research? How will the applicant deal with recruitment and retention of subjects?

Dissemination: What plans have been articulated for sharing the research findings?

Measures of Effectiveness: Applicants are required to provide measures of effectiveness that will demonstrate the accomplishment of the various identified objectives of the cooperative agreement. Measures must be objective and quantitative and must measure the intended outcomes. These measures of effectiveness will be submitted with the application and will be an element of evaluation. The Special Emphasis Panel shall assure that measures set forth in the application are in accordance with CDC's performance plans. How adequately has the applicant addressed these measures?

Protection of Human Subjects from Research Risks: Does the application adequately address the requirements of title 45 CFR part 46 for the protection of human subjects? This will not be scored; however, an application can be disapproved if the research risks are sufficiently serious and protection against risks is so inadequate as to make the entire application unacceptable.

Inclusion of Women and Minorities in Research: Does the application adequately address the CDC Policy requirements regarding the inclusion of woman, ethnic, and racial groups in the proposed research? This includes: (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits.

Inclusion of Children as Participants in Research Involving Human Subjects: The NIH maintains a policy that children (i.e., individuals under the age of 21) must be included in all human subjects research, conducted or supported by the NIH, unless there are scientific and ethical reasons not to include them. This policy applies to all initial (Type 1) applications submitted for receipt dates after October 1, 1998.

Budget: The reasonableness of the proposed budget and the requested period of support in relation to the proposed research.

2. Review and Selection Process

Applications will be reviewed for completeness by the Procurement and Grants Office (PGO) and for responsiveness by the NCIPC. Incomplete applications and applications that are non-responsive will not advance through the review process. You will be notified that you did not meet submission requirements.

Applications that are complete and responsive to the Program Announcement will be evaluated for scientific and technical merit by an appropriate peer review group convened by the NCIPC in accordance with the review criteria listed above. As part of the initial merit review, all applications will:

• Undergo a process in which only those applications deemed to have the highest scientific merit, generally the top half of the applications under review, will be discussed and assigned a priority score.

• Receive a written critique.

• Receive a second level review by the Science and Program Review Section (SPRS) of the Advisory Committee for Injury Prevention and Control (ACIPC).

Applications which are complete and responsive may be subjected to a preliminary evaluation (streamline review) by a peer review committee, the NCIPC Initial Review Group (IRG), to determine if the application is of sufficient technical and scientific merit to warrant further review by the IRG. CDC will withdraw from further consideration applications judged to be noncompetitive and promptly notify the principal investigator/program director and the official signing for the applicant organization. Those applications judged to be competitive will be further evaluated by a dual review process.

All awards will be determined by the Director of the NCIPC based on priority scores assigned to applications by the primary review committee IRG, recommendations by the secondary review committee of the SPRS of the ACIPC, consultation with NCIPC senior staff, and the availability of funds.

The primary review will be a peer review conducted by the IRG. All applications will be reviewed for scientific merit using current National Institutes of Health (NIH) criteria (a scoring system of 100-500 points) to evaluate the methods and scientific quality of the application.

The secondary review will be conducted by the SPRS of the ACIPC. The ACIPC Federal agency experts will be invited to attend the secondary review and will receive modified briefing books (i.e., abstracts, strengths and weaknesses from summary statements, and project officer's briefing materials). ACIPC Federal agency experts will be encouraged to participate in deliberations when applications address overlapping areas of research interest, so that unwarranted duplication in federally-funded research can be avoided and special subject area expertise can be shared. The NCIPC Division Associate Directors for Science (ADS) or their designees will attend the secondary review in a similar capacity as the ACIPC Federal agency experts to assure that research priorities of the announcement are understood and to provide background regarding current research activities. Only SPRS members will vote on funding recommendations, and their recommendations will be carried over to the entire ACIPC for voting by the ACIPC members in closed session. If any further review is needed by the ACIPC, regarding the recommendations of the SPRS, the factors considered will be the same as those considered by the SPRS.

The committee's responsibility is to develop funding recommendations for the NCIPC Director based on the results of the primary review, the relevance and balance of proposed research relative to the NCIPC programs and priorities, and to assure that unwarranted duplication of federally-funded research does not occur. The secondary review committee has the latitude to recommend to the NCIPC Director, to reach over better ranked proposals in order to assure maximal impact and balance of proposed research. The factors to be considered will include:

a. The results of the primary review including the application's priority score as the primary factor in the selection process.

b. The relevance and balance of proposed research relative to the NCIPC programs and priorities.

c. The significance of the proposed activities in relation to the priorities and objectives stated in “Healthy People 2010” (http://www.healthypeople.gov/), the Institute of Medicine report, “Reducing the Burden of Injury,” and the “CDC Injury Research Agenda” (http://www.cdc.gov/ncipc/pub-res/research_agenda).

d. Budgetary considerations.

VI. Award Administration Information

1. Award Notices

Successful applicant will receive a Notice of Grant Award (NGA) from the CDC Procurement and Grants Office. The NGA shall be the only binding, authorizing document between the recipient and CDC. The NGA will be signed by an authorized Grants Management Officer (GMO), and mailed to the recipient fiscal officer identified in the application.

2. Administrative and National Policy Requirements

45 CFR Part 74 and 92

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-16 Security Clearance Requirement

• AR-21 Small, Minority, and Women-Owned Business

• AR-22 Research Integrity

• AR-23 States and Faith-Based Organizations

• AR-24 Health Insurance Portability and Accountability Act Requirements

• AR-25 Release and Sharing of Data

Starting with the December 1, 2003, receipt date, all NCIPC funded investigators seeking more than $500,000 in total costs in a single year are expected to include a plan describing how the final research data will be shared/released or explain why data sharing is not possible. Details on data sharing/release, including the timeliness and name of the project data steward, should be included in a brief paragraph immediately following the Research Plan Section of the PHS 398 form. References to data sharing/release may also be appropriate in other sections of the application (e.g., background and significance, human subjects requirements, etc.) The content of the data sharing/release plan will vary, depending on the data being collected and how the investigator is planning to share the data. The data sharing/release plan will not count towards the application page limit and will not factor into the determination scientific merit or priority scores. Investigators should seek guidance from their institutions, on issues related to institutional policies, local IRB rules, as well as local, state and Federal laws and regulations, including the Privacy Rule.

Further detail on the requirements for addressing data sharing in applications for NCIPC funding may be obtained by contacting NCIPC program staff or visiting the NCIPC Internet Web site at http://www.cdc.gov/ncipc/osp/sharing_policy.htm.

Additional information on these requirements can be found on the CDC Web site at the following Internet address: http://www.cdc.gov/od/pgo/funding/ARs.htm.

3. Reporting

You must provide CDC with an original, plus two copies of the following reports:

1. Interim progress report, (PHS 2590, OMB Number 0925-0001, rev. 5/2001) no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

VII. Agency Contacts

For general questions about this announcement, contact: Technical Information Management Section—PA#04058, Procurement and Grants Office, Centers for Disease Control and Prevention, 2920 Brandywine Road, Atlanta, GA 30341, Telephone: 770-488-2700.

For scientific/research program technical assistance, contact: Mick Ballesteros, PhD, Project Officer, Division of Unintentional Injury Prevention, National Center for Injury Prevention and Control, Centers for Disease Control and Prevention, 4770 Buford Highway, NE., Mailstop K-63, Atlanta, GA 30341, Telephone: 770-488-1308, E-mail address: mballesteros@cdc.gov.

For questions about peer review, contact: Gwen Cattledge, Scientific Review Administrator, National Center for Injury Prevention and Control, Centers for Disease Control and Prevention, 4770 Buford Highway, NE., Mailstop K-02, Atlanta, GA 30341, Telephone: 770-488-1430, E-mail address: gxc8@cdc.

For financial, grants management, or budget assistance, contact: Nancy Pillar, Grants Management (or Contract) Specialist, Procurement and Grants Office, Centers for Disease Control and Prevention, 2920 Brandywine Road, Atlanta, GA 30341, Telephone: 770-488-2721, E-mail address: nfp6@cdc.gov.

VIII. Other Information—None

Dated: November 20, 2003.
Edward J. Schultz,
Acting Director, Procurement and Grants Office, Centers for Disease Control and Prevention.

[FR Doc. 03-29634 Filed 11-26-03; 8:45 am]

BILLING CODE 4163-18-P